DEPARTMENT OF AGRICULTURE

Foreign Agricultural Service

Trade Adjustment Assistance for Farmers

AGENCY: Foreign Agricultural Service, USDA.

ACTION: Notice.

The Administrator of the Foreign Agricultural Service (FAS) has denied a petition (No. 2010008) for trade adjustment assistance (TAA) for crawfish that was filed by the Louisiana Crawfish Farmers Association and accepted for review by USDA on May 3, 2010.

SUPPLEMENTARY INFORMATION: To qualify under the program, Subtitle C of Title I of the Trade Act of 2002 (Pub. L. 107-210) states that petitions must demonstrate, using data for the most recent, full marketing year or official marketing season, a greater than 15-percent decline in at least one of the following factors: National average price, quantity of production, value of production, or cash receipts.

According to the statute, it is also necessary for the petition to demonstrate that an increase in imports of articles like or directly competitive, during the same marketing period, contributed importantly to the decrease in one of the above factors for the agricultural commodity.

All petitions were analyzed by USDA's Economic Research Service and reviewed by the TAA for Farmers Review Committee, comprised of representatives from USDA's Office of the Chief Economist, Farm Service Agency, Agricultural Marketing Service, and Foreign Agricultural Service. After a review, the Administrator determined that the import data provided did not meet the regulatory requirement for the most recent, official USDA full marketing year or full marketing season. Because the petition was unable to meet this regulatory requirement, it did not qualify for certification for Fiscal Year (FY) 2010.

FOR FURTHER INFORMATION CONTACT: Trade Adjustment Assistance for Farmers Staff, FAS, USDA, by phone: (202) 720-0638, or (202) 690-0633; or by e-mail: tradeadjustment@fas.usda.gov; or visit the TAA for Farmers' Web site: http://www.fas.usda.gov/itp/taa.

Dated: July 8, 2010.
John D. Brewer,
Administrator, Foreign Agricultural Service.

[FR Doc. 2010-17347 Filed 7-15-10; 8:45 am]

BILLING CODE 3410-10-P